DEPARTMENT OF JUSTICE

Bureau of Alcohol, Tobacco, Firearms and Explosives

[OMB Number 1140-NEW]

Agency Information Collection Activities: Proposed Collection; Comments Requested

ACTION: 60-Day Emergency Notice of Information Collection Under Review: Report of Multiple Sale or Other Disposition of Certain Rifles.

The Department of Justice, Office of Justice Programs, will submit the following information collection request to the Office of Management and Budget (OMB) for review and clearance in accordance with emergency review procedures of the Paperwork Reduction Act of 1995. OMB approval has been requested by January 5, 2011. This notice requests comments from the public and affected agencies concerning the proposed information collection. If granted, the emergency approval is only valid for 180 days. Comments should be directed to OMB, Office of Information and Regulation Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to Barbara A. Terrell, Barbara.Terrell@atf.gov Firearms Industry Programs Branch, Fax (202) 648-9640, Bureau of Alcohol, Tobacco, Firearms and Explosives, 99 New York Avenue, NE., Washington DC 20226.

Written comments and suggestions from the public and affected agencies concerning the proposed collection of information. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Collection:

(1) Type of information collection: New.

(2) The title of the form/collection: Report of Multiple Sale or Other Disposition of Certain Rifles.

(3) The agency form number, if any, and the applicable component of the department sponsoring the collection: Form Number: ATF F 3310.12. Bureau of Alcohol, Tobacco, Firearms and Explosives.

(4) Affected public who will be asked or required to respond, as well as a brief abstract: Primary: Business or For-Profit Other: None.

Need for Collection

The purpose of the information is to require Federal Firearms Licensees to report multiple sales or other dispositions whenever the licensee sells or otherwise disposes of two or more rifles within any five consecutive business days with the following characteristics: (a) Semi automatic; (b) a caliber greater than .22; and (c) the ability to accept a detachable magazine.

(5) An estimate of the total number of respondents and the amount of time estimated for an average respondent to respond/reply: It is estimated that 8,479 respondents will complete a 12 minute form.

(6) An estimate of the total public burden (in hours) associaed with the collection: The estimated total public burden associated with this information collection is 1,696 hours.

If additional information is required contact: Lynn Murray, Department Clearance Officer, Policy and Planning Staff, Justice Management Division, United States Department of Justice, 145 N Street, NE., Two Constitution Square, Room 2E-502, Washington, DC 20530.

Dated: December 14, 2010.
Lynn Murray,
Department Clearance Officer, PRA, United States Department of Justice.

[FR Doc. 2010-31761 Filed 12-16-10; 8:45 am]

BILLING CODE 4410-FY-P